DEPARTMENT OF DEFENSE

Office of the Secretary

[Transmittal No. 24-0A]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0A.

Dated: December 9, 2025.
Stephanie J. Bost,
Alternate OSD Federal Register Liaison Officer, Department of Defense.

BILLING CODE 6001-FR-P

BILLING CODE 6001-FR-C

Transmittal No. 24-0A

REPORT OF ENHANCEMENT OR UPGRADE OF SENSITIVITY OF TECHNOLOGY OR CAPABILITY (SEC. 36(B)(5)(C), AECA)

(i) Prospective Purchaser: Kingdom of Saudi Arabia

(ii) Sec. 36(B)(1), AECA Transmittal No.: 15-17

Date: May 20, 2015

Implementing Agency: Navy

Funding Source: National Funds

(iii) Description: On May 20, 2015, Congress was notified by congressional certification transmittal number 15-17 of the possible sale, under Section 36(b)(l) of the Arms Export Control Act, of ten (10) MH-60R multi-mission helicopters with fourteen (14) APS-153(V) Multi-Mode radars (10 installed, 2 spares and 2 for testing); twenty-four T-700 GE 401 C engines (20 installed and 4 spares); twelve (12) APX-123 Identification Friend or Foe transponders (10 installed and 2 spares); fourteen (14) AN/AAS-44C(V) Multi-Spectral Targeting Systems Forward Looking Infrared Radars (10 installed, 2 spares, and 2 for testing); twenty-six (26) Embedded Global Positioning System/Inertial Navigation Systems with Selective Availability/Anti-Spoofing Module (20 installed and 6 spares); Link-16 capability; one-thousand (1,000) AN/SSQ-36/53/62 Sonobuoys; thirty-eight (38) AGM-114R Hellfire II missiles; five (5) AGM-114 M36-E9 Captive Air Training missiles; four (4) AGM-114Q Hellfire Training Missiles; three-hundred eighty (380) Advanced Precision Kill Weapons Systems rockets; twelve (12) M-240D crew served weapons; and twelve (12) GAU-21 crew served weapons. Also included were spare engine containers, facilities study and design; spare and repair parts; support and test equipment; communication equipment; aerial refueling services; ferry support; publications and technical documentation; personnel training and training equipment; United States (U.S.) Government and contractor engineering, technical and logistics support services; and other elements of logistical and program support. The estimated cost was $1.90 billion. Major Defense Equipment (MDE) constituted $1.25 billion of this total.

On September 15, 2015, Congress was notified by congressional certification transmittal number 0J-15 of the inclusion of two (2) AN/AQS-22 Airborne Low Frequency Sonar (ALFS). The AN/AQS-22 was declared Major Defense Equipment (MDE) in early June 2015, after transmittal number 15-17 was notified to Congress. Prior to this determination, the units were included in the value of the original transmittal but not enumerated or valued as MDE. Upgrading the status of this equipment to MDE resulted in an increase in MDE of $9 million, but the total case value remained at $1.90 billion.

On May 24, 2019, Congress was notified by congressional certification transmittal number 0O-19 of the inclusion of ten (10) Link 16 Multifunctional Information Distribution System—Low Volume Terminals (MIDS-LVT) Block Upgrade Two terminals to be installed on Saudi Arabia's MH-60R Helicopters; twenty-four (24) spare Link 16 MIDS-LVT Block Upgrade Two terminals; support equipment; engineering and technical support, training, and other related elements of program support. The total MDE value was $10.9 million. The revised MDE total value was $1.269 billion. The total value remained $1.90 billion.

This transmittal notifies inclusion of the following additional MDE items: six hundred eighty-two (682) Advanced Precision Kill Weapons System (APKWS) rockets; one hundred fifty-three (153) AGM-114R Hellfire II missiles; and one (1) M240D 7.62mm machine gun. The following non-MDE items will also be included: engineering and technical support; training; and other related elements of program support. The estimated total value of the new items is $71 million. This will result in a net increase in MDE value of $71 million, and a revised total MDE value of $1.34 billion. The estimated total case value will remain $1.90 billion.

(iv) Significance: This notification is being provided as the additional MDE items were not enumerated in the original notification. The proposed articles and services will support the Kingdom of Saudi Arabia by improving security in the Arabian Gulf, interoperability with U.S. forces, and the ease in conducting coordinated operations.

(v) Justification: This proposed sale will support the foreign policy goals and national security objectives of the U.S. by improving the security of a partner country that is a force for political stability and economic progress in the Gulf Region.

(vi) Sensitivity of Technology:

The Sensitivity of Technology Statement contained in the original notification applies to items reported here.

The highest level of classification of defense articles, components, and services included in this potential sale is SECRET.

(vii) Date Report Delivered to Congress: October 11, 2024

[FR Doc. 2025-22603 Filed 12-11-25; 8:45 am]

BILLING CODE 6001-FR-P